DEPARTMENT OF ENERGY

Federal Energy Regulatory Commission

[Docket No. EC01-22-000, et al.]

Ohio Edison Company, et al.; Electric Rate and Corporate Regulation Filings

November 15, 2000.

Take notice that the following filings have been made with the Commission:

1. Ohio Edison Company, The Cleveland Electric Illuminating Company, The Toledo Edison Company, Pennsylvania Power Company, American Transmission Systems, Inc. and their public utility affiliates and Jersey Central Power & Light Company, Metropolitan Edison Company, Pennsylvania Electric Company and their public utility affiliates

[Docket No. EC01-22-000]

Take notice that on November 9, 2000 Ohio Edison Company (OE), The Cleveland Electric Illuminating Company (CEI), The Toledo Edison Company (TE), Pennsylvania Power Company (PP), American Transmission Systems, Inc. (ATSI), and their public utility affiliates (the FirstEnergy Companies) and Jersey Central Power & Light Company (JCP&L), Metropolitan Edison Company (MetEd), and Pennsylvania Electric Company (Penelec), and their public utility affiliates (the GPU Companies) (collectively, Applicants), tendered for filing an application pursuant to Section 203 of the Federal Power Act and Part 33 of the Commission's regulations, 18 CFR Part 33, for an order approving the proposed merger of the FirstEnergy Companies and the GPU Companies (Application).

Applicants request all authorizations necessary to undertake the proposed merger. Upon consummation of the merger, Applicants will form a registered public utility holding company system.

Comment date: January 8, 2001, in accordance with Standard Paragraph E at the end of this notice.

2. California Power Exchange Corporation

[Docket Nos. EC96-19-000 and ER96-1663-000]

Take notice that on November 7, 2000, the Compliance Unit of the California Power Exchange Corporation (CalPX) filed a report entitled “Price Movements in California Power Exchange Markets: Analysis of Price Activity; May-September 2000.” CalPX states that it has posted the report on its website (www.calpx.com) for downloading. In addition, CalPX has served copies of its transmittal letter upon the parties to these dockets and will make a hard copy of the report available to any party upon request.

Comment date: November 28, 2000, in accordance with Standard Paragraph E at the end of this notice.

3. Consumers Energy Company

[Docket No. EC01-4-000]

Take notice that on November 2, 2000, Consumers Energy Company (CECo) filed an amendment to their Application For Authorization to Transfer Jurisdictional Transmission Assets To Michigan Electric Transmission Company pursuant to Section 203 of the Federal Power Act, which was filed on October 13, 2000 in the above-captioned docket. CECo and Michigan Transco are requesting that the existing one-page pro forma Bill of Sale be removed from Exhibit H(4) and be replaced with the two-page amended pro forma Bill of Sale.

Comment date: November 29, 2000, in accordance with Standard Paragraph E at the end of this notice.

4. Mobile Energy Services Company, L.L.C.; Mobile Energy Services Holdings, Inc.

[Docket No. EC01-21-000]

Take notice that on November 9, 2000, Mobile Energy Services Company, L.L.C. and Mobile Energy Services Holdings, Inc. filed for authorization of the disposition of jurisdictional facilities pursuant to Section 203 of the Federal Power Act, 16 U.S.C. § 824b (1994).

Comment date: November 30, 2000, in accordance with Standard Paragraph E at the end of this notice.

5. Covert Generating Company, LLC

[Docket No. EG01-28-000]

Take notice that on November 9, 2000, Covert Generating Company, LLC (Covert), a limited liability company with its principal place of business at 7500 Old Georgetown Road, Bethesda, Maryland 20814, filed with the Federal Energy Regulatory Commission an application for determination of exempt wholesale generator status pursuant to Part 365 of the Commission's regulations.

Covert proposes to construct, own or lease and operate a natural gas-fired, combined cycle power plant of approximately 1,200 MW capacity in Covert Township, Van Buren County, Michigan. The proposed power plant is expected to commence commercial operation in the first or second quarter of 2003. All output from the plant will be sold by Covert exclusively at wholesale.

Comment date: December 6, 2000, in accordance with Standard Paragraph E at the end of this notice. The Commission will limit its consideration of comments to those that concern the adequacy or accuracy of the application.

6. STI Capital Company

[Docket No. EG01-29-000]

Take notice that on November 9, 2000, STI Capital Company, 2200 Pacific Coast Highway, San Diego, California 92101 (STI), filed with the Federal Energy Regulatory Commission (Commission) an Application for Determination of Exempt Wholesale Generator Status pursuant to Part 365 of the Commission's Regulations and Section 32 of the Public Utility Holding Company Act, as amended (the Application).

The Application seeks a determination that STI qualifies for Exempt Wholesale Generator status. STI is a Delaware Corporation that will own and operate a gas-fired combined cycle cogeneration facility rated at 69 MW. Upon STI's determination as an EWG, the facility will be used for the generation of electricity exclusively for sale at wholesale. Copies of this Application have been served upon the Pennsylvania Public Utility Commission and the Securities and Exchange Commission.

Comment date: December 6, 2000, in accordance with Standard Paragraph E at the end of this notice. The Commission will limit its consideration of comments to those that concern the adequacy or accuracy of the application.

7. NEV, L.L.C, NEV East, L.L.C., NEV California, L.L.C., NEV Midwest, L.L.C.

[Docket Nos. ER97-4636-011, ER97-4652-011, ER97-4653-011, ER97-4654-011, ER01-429-000]

Take notice that on November 8, 2000, NEV, L.L.C.; NEV East, L.L.C.; NEV California, L.L.C.; and NEV Midwest, L.L.C. (collectively NEV), tendered for filing an updated market power analysis in compliance with the Commission's order, issued on November 12, 1997, in the captioned dockets, NEV, L.L.C., NEV East, L.L.C., NEV California, L.L.C., and NEV Midwest, L.L.C., 81 FERC ¶ 61,186. This filing is a triennial update of the 1997 analysis submitted to the Commission in connection with the initial request for market-based rates by NEV. Also included in this submission are rate schedules and a code of conduct revised to reflect NEV's new corporate affiliations, as more fully described in the submission.

Comment date: November 29, 2000, in accordance with Standard Paragraph E at the end of this notice.

8. Northeast Utilities Service Company

[Docket No. ER00-3742-002]

Take notice that on November 8, 2000, Northeast Utilities Service Company (NUSCO), on behalf of The Connecticut Light and Power Company (CL&P) and Western Massachusetts Electric Company (WMECO), tendered for filing unredacted conformed copies of agreements dated April 10, 2000, which the Companies have agreed to sell and deliver to Constellation Power Source, Inc. (CPS) capacity and energy and associated ancillary services to which the Companies are entitled under sixteen power purchase agreements.

NUSCO requests that the Commission institute a shortened notice period and expedited procedures to allow this filing to be accepted by December 1, 2000.

Comment date: November 29, 2000, in accordance with Standard Paragraph E at the end of this notice.

9. Montana-Dakota Utilities Co., a division of MDU Resources Group, Inc.

[Docket No. ER01-178-000]

Take notice that on November 8, 2000, Montana-Dakota Utilities Co., a division of MDU Resources Group, Inc. (Montana-Dakota), tendered for filing a notice of withdrawal of its October 20, 2000 filing herein of a revised Exhibit H to a certain July 1, 1988 “Contract for Electric Service to Montana-Dakota Utilities Co.”, Contract No. 88-BAO-308, between Montana-Dakota and Western Area Power Administration (Western), that is Montana-Dakota Rate Schedule No. 19.

Copies of the filing were served on Western and on the interested utility regulatory agencies.

Comment date: November 29, 2000, in accordance with Standard Paragraph E at the end of this notice.

10. Chandler Wind Partners, LLC

[Docket No. ER01-390-000]

Take notice that on November 8, 2000, Chandler Wind Partners, LLC, of 63-655 19th Avenue, P.O. Box 1043, North Palm Springs, California 92258, tendered for filing with the Federal Energy Regulatory Commission an application for market-based rate authorization, waivers and exemptions and a request for an effective date of November 9, 2000 for its market-based rate authorization.

Chandler Wind Partners, LLC, is a Delaware limited liability company that owns and operates an approximately 1.98 megawatt (nameplate capacity) wind generation facility, comprised of three (3) Vestas V47-660kw wind turbine generators (the Facility). The Facility is located in Murray County, Minnesota. Chandler Wind Partners, LLC, is seeking market-based rate authorization, waivers and exemptions, and a request for an effective date of November 9, 2000 for its market-based rate authorization in order to continue to sell the output of the Facility to the Cooperative Power Association after sale of the Facility to Cinergy Global Chandler I, Inc.

Comment date: November 29, 2000, in accordance with Standard Paragraph E at the end of this notice.

11. Allegheny Energy Service Corporation, on behalf of Monongahela Power Company, The Potomac Edison Company, and West Penn Power Company (Allegheny Power)

[Docket No. ER01-391-000]

Take notice that on November 8, 2000 Allegheny Energy Service Corporation on behalf of Monongahela Power Company, The Potomac Edison Company and West Penn Power Company (Allegheny Power), tendered for filing Service Agreement No. 331 to add Select Energy, Inc. to Allegheny Power's Open Access Transmission Service Tariff.

The proposed effective date under the agreement is November 7, 2000.

Copies of the filing have been provided to the Public Utilities Commission of Ohio, the Pennsylvania Public Utility Commission, the Maryland Public Service Commission, the Virginia State Corporation Commission, and the West Virginia Public Service Commission.

Comment date: November 29, 2000, in accordance with Standard Paragraph E at the end of this notice.

12. American Transmission Company LLC

[Docket No. ER01-392-000]

Take notice that on November 9, 2000, American Transmission Company LLC (ATCLLC), tendered for filing a Distribution-Transmission Agreement between ATCLLC and Wisconsin Electric Power Company.

ATCLLC requests an effective date of January 1, 2001.

Comment date: November 30, 2000, in accordance with Standard Paragraph E at the end of this notice.

13. Jersey Central Power & Light Company, Metropolitan Edison Company, Pennsylvania Electric Company

[Docket No. ER01-393-000]

Take notice that on November 9, 2000, Jersey Central Power & Light Company, Metropolitan Edison Company and Pennsylvania Electric Company (individually doing business as GPU Energy), tendered for filing a Notice of Cancellation of the Service Agreement between GPU Service, Inc. and Sonat Power Marketing Inc. (now El Paso Merchant Energy, L.P.), FERC Electric Tariff, Original Volume No. 1, Service Agreement No. 54.

GPU Energy requests that cancellation be effective January 8, 2001.

Comment date: November 30, 2000, in accordance with Standard Paragraph E at the end of this notice.

14. Jersey Central Power & Light Company, Metropolitan Edison Company, Pennsylvania Electric Company

[Docket No. ER01-394-000]

Take notice that on November 9, 2000, Jersey Central Power & Light Company, Metropolitan Edison Company and Pennsylvania Electric Company (individually doing business as GPU Energy), tendered for filing a Notice of Cancellation of the Service Agreement between GPU Service Corporation and Rainbow Energy Marketing Corporation, FERC Electric Tariff, Original Volume No. 1, Service Agreement No. 16. GPU Energy requests that cancellation be effective January 8, 2001.

Comment date: November 30, 2000, in accordance with Standard Paragraph E at the end of this notice.

15. Jersey Central Power & Light Company, Metropolitan Edison Company, Pennsylvania Electric Company

[Docket No. ER01-395-000]

Take notice that on November 9, 2000, Jersey Central Power & Light Company, Metropolitan Edison Company and Pennsylvania Electric Company (individually doing business as GPU Energy), tendered for filing a Notice of Cancellation of the Service Agreement between GPU Service Corporation and Stand Energy Corporation, FERC Electric Tariff, Original Volume No. 1, Service Agreement No. 15.

GPU Energy requests that cancellation be effective January 8, 2001.

Comment date: November 30, 2000, in accordance with Standard Paragraph E at the end of this notice.

16. Jersey Central Power & Light Company, Metropolitan Edison Company, Pennsylvania Electric Company

[Docket No. ER01-396-000]

Take notice that on November 9, 2000, Jersey Central Power & Light Company, Metropolitan Edison Company and Pennsylvania Electric Company (individually doing business as GPU Energy), tendered for filing a Notice of Cancellation of the Service Agreement between GPU Service Corporation and TransCanada Power Corporation, FERC Electric Tariff, Original Volume No. 1, Service Agreement No. 43.

GPU Energy requests that cancellation be effective January 8, 2001.

Comment date: November 30, 2000, in accordance with Standard Paragraph E at the end of this notice.

17. Jersey Central Power & Light Company, Metropolitan Edison Company, Pennsylvania Electric Company

[Docket No. ER01-397-000]

Take notice that on November 9, 2000, Jersey Central Power & Light Company, Metropolitan Edison Company and Pennsylvania Electric Company (individually doing business as GPU Energy), tendered for filing a Notice of Cancellation of the Service Agreement between GPU Service Corporation and KN Marketing, Inc. (now Kinder Morgan, Inc.), FERC Electric Tariff, Original Volume No. 1, Service Agreement No. 44.

GPU Energy requests that cancellation be effective January 8, 2001.

Comment date: November 30, 2000, in accordance with Standard Paragraph E at the end of this notice.

18. Jersey Central Power & Light Company, Metropolitan Edison Company, Pennsylvania Electric Company

[Docket No. ER01-398-000]

Take notice that on November 9, 2000, Jersey Central Power & Light Company, Metropolitan Edison Company and Pennsylvania Electric Company (individually doing business as GPU Energy), tendered for filing a Notice of Cancellation of the Service Agreement between GPU Service Corporation and Industrial Energy Applications, Inc., FERC Electric Tariff, Original Volume No. 1, Service Agreement No. 34.

GPU Energy requests that cancellation be effective January 8, 2001.

Comment date: November 30, 2000, in accordance with Standard Paragraph E at the end of this notice.

19. Jersey Central Power & Light Company, Metropolitan Edison Company, Pennsylvania Electric Company

[Docket No. ER01-399-000]

Take notice that on November 9, 2000, Jersey Central Power & Light Company, Metropolitan Edison Company and Pennsylvania Electric Company (individually doing business as GPU Energy), tendered for filing a Notice of Cancellation of the Service Agreement between GPU Service, Inc. and Virginia Electric and Power Company, FERC Electric Tariff, Original Volume No. 1, Service Agreement No. 61.

GPU Energy requests that cancellation be effective January 8, 2001.

Comment date: November 30, 2000, in accordance with Standard Paragraph E at the end of this notice.

20. Jersey Central Power & Light Company, Metropolitan Edison Company, Pennsylvania Electric Company

[Docket No. ER01-400-000]

Take notice that on November 9, 2000, Jersey Central Power & Light Company, Metropolitan Edison Company and Pennsylvania Electric Company (individually doing business as GPU Energy), tendered for filing a Notice of Cancellation of the Service Agreement between GPU Service, Inc. and V TEC Energy, Inc., FERC Electric Tariff, Original Volume No. 1, Service Agreement No. 59.

GPU Energy requests that cancellation be effective January 8, 2001.

Comment date: November 30, 2000, in accordance with Standard Paragraph E at the end of this notice.

21. Jersey Central Power & Light Company, Metropolitan Edison Company, Pennsylvania Electric Company

[Docket No. ER01-401-000]

Take notice that on November 9, 2000, Jersey Central Power & Light Company, Metropolitan Edison Company and Pennsylvania Electric Company (individually doing business as GPU Energy), tendered for filing a Notice of Cancellation of the Service Agreement between GPU Service Corporation and AIG Trading Corporation (now Sempra Energy Trading Corp.), FERC Electric Tariff, Original Volume No. 1, Service Agreement No. 63.

GPU Energy requests that cancellation be effective January 8, 2001.

Comment date: November 30, 2000, in accordance with Standard Paragraph E at the end of this notice.

22. Jersey Central Power & Light Company, Metropolitan Edison Company, Pennsylvania Electric Company

[Docket No. ER01-402-000]

Take notice that on November 9, 2000, Jersey Central Power & Light Company, Metropolitan Edison Company and Pennsylvania Electric Company (individually doing business as GPU Energy), tendered for filing a Notice of Cancellation of the Service Agreement between GPU Service, Inc. and The Utility-Trade Corp., FERC Electric Tariff, Original Volume No. 1, Service Agreement No. 68.

GPU Energy requests that cancellation be effective January 8, 2001.

Comment date: November 30, 2000, in accordance with Standard Paragraph E at the end of this notice.

23. Jersey Central Power & Light Company, Metropolitan Edison Company, Pennsylvania Electric Company

[Docket No. ER01-403-000]

Take notice that on November 9, 2000, Jersey Central Power & Light Company, Metropolitan Edison Company and Pennsylvania Electric Company (individually doing business as GPU Energy), tendered for filing a Notice of Cancellation of the Service Agreement between GPU Service Corporation and USGen Power Services, L.P. (now PG&E Energy Trading—Power, LP), FERC Electric Tariff, Original Volume No. 1, Service Agreement No. 55.

GPU Energy requests that cancellation be effective January 8, 2001.

Comment date: November 30, 2000, in accordance with Standard Paragraph E at the end of this notice.

24. Jersey Central Power & Light Company, Metropolitan Edison Company, Pennsylvania Electric Company

[Docket No. ER01-404-000]

Take notice that on November 8, 2000, Jersey Central Power & Light Company, Metropolitan Edison Company and Pennsylvania Electric Company (individually doing business as GPU Energy), tendered for filing a Notice of Cancellation of the Service Agreement between GPU Service Corporation and Tenneco Energy Marketing Company (now El Paso Merchant Energy, L.P.), FERC Electric Tariff, Original Volume No. 1, Service Agreement No. 33.

GPU Energy requests that cancellation be effective January 8, 2001.

Comment date: November 30, 2000, in accordance with Standard Paragraph E at the end of this notice.

25. Jersey Central Power & Light Company, Metropolitan Edison Company, Pennsylvania Electric Company

[Docket No. ER01-405-000]

Take notice that on November 8, 2000, Jersey Central Power & Light Company, Metropolitan Edison Company and Pennsylvania Electric Company (individually doing business as GPU Energy), tendered for filing a Notice of Cancellation of the Service Agreement between GPU Service Corporation and Rochester Gas and Electric Corporation (originally filed as Rochester Gas and Electric Company), FERC Electric Tariff, Original Volume No. 1, Service Agreement No. 24.

GPU Energy requests that cancellation be effective January 8, 2001.

Comment date: November 30, 2000, in accordance with Standard Paragraph E at the end of this notice.

26. PECO Energy Company

[Docket No. ER01-406-000]

Take notice that on November 8, 2000, PECO Energy Company (PECO), tendered for filing under Section 205 of the Federal Power Act, 16 U.S.C. S 792 et seq., an Agreement dated November 8, 2000 with Edison Mission Marketing & Trading, Inc. (EMMT) under PECO's FERC Electric Tariff Original Volume No. 1 (“Tariff”).

PECO requests an effective date of November 8, 2000 for the Agreement.

PECO states that copies of this filing have been supplied to Edison Mission Marketing & Trading, Inc. and to the Pennsylvania Public Utility Commission.

Comment date: November 30, 2000, in accordance with Standard Paragraph E at the end of this notice.

27. Duke Energy Corporation

[Docket No. ER01-407-000]

Take notice that on November 9, 2000, Duke Energy Corporation (Duke), tendered for filing a Service Agreement with The Detroit Edison Company, for Firm Transmission Service under Duke's Open Access Transmission Tariff.

Duke requests that the proposed Service Agreement be permitted to become effective on October 10, 2000.

Duke states that this filing is in accordance with Part 35 of the Commission's Regulations and a copy has been served on the North Carolina Utilities Commission.

Comment date: November 30, 2000, in accordance with Standard Paragraph E at the end of this notice.

Standard Paragraphs:

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-29851 Filed 11-21-00; 8:45 am]

BILLING CODE 6717-01-P